DEPARTMENT OF TRANSPORTATION

Federal Aviation Administration

36th Meeting: RTCA Special Committee 206, Aeronautical Information and Meteorological Data Link Services

AGENCY: Federal Aviation Administration (FAA), U.S. Department of Transportation (DOT).

ACTION: Meeting Notice of RTCA Special Committee 206, Aeronautical Information and Meteorological Data Link Services.

SUMMARY: The FAA is issuing this notice to advise the public of the thirty-sixth meeting of the RTCA Special Committee 206, Aeronautical Information and Meteorological Data Link Services.

DATES: The meeting will be held March 10-14, 8:30 a.m.-5:00 p.m.

ADDRESSES: The meeting will be held at National Weather Service Training Center, 7220 NW 101st Terrace, Kansas City, MO 64153.

FOR FURTHER INFORMATION CONTACT: The RTCA Secretariat, 1150 18th Street NW., Suite 910, Washington, DC 20036, or by telephone at (202) 330-0652/(202) 833-9339, fax at (202) 833-9434, or Web site at http://www.rtca.org or Sophie Bousquet, sbousquet@rtca.org, 202-330-0663.

SUPPLEMENTARY INFORMATION: Pursuant to section 10(a)(2) of the Federal Advisory Committee Act (Pub. L. 92-463, 5 U.S.C., App.), notice is hereby given for a meeting of Special Committee 206. The agenda will include the following:

March 10

1:00 p.m.

• Opening remarks: Chairman, DFO and Host.

• Review and approval meeting agenda.

• SC-206 action item review.

• Approval of previous (McLean) meeting minutes.

• Sub-Groups status and week's plan.

• Industry Presentations.

3:00 p.m.

• Sub-Group Meetings.

March 11&12

8:30 a.m.

• Sub-Groups meetings.

10:00 a.m.

• SG4: SE2020 Eddy Dissipation Rate (EDR) Turbulence Project Update on March 11.

1:00 p.m.

• Tour of AWC on March 11 & 12.

March 13

8:30 a.m.

• SG-4 DO-252 Update Document Review.

1:00 p.m.

• Plenary: SG-4 DO-252 Update Document Review (if needed).

○ Alternative: Sub-Group Meetings.

March 14

8:30 a.m.

• Closing Plenary.

○ Sub-Groups reports.

○ Decision to release DO-252 Update for FRAC.

• Action item review.

• Future meeting plans and dates.

• Industry Coordination & Presentations.

• Other business.

11:30 a.m.

• Adjourn.

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on February 5, 2014.
Paige Williams,
Management Analyst, NextGen, Business Operations Group, Federal Aviation Administration.

[FR Doc. 2014-02923 Filed 2-10-14; 8:45 am]

BILLING CODE 4910-13-P